DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on October 16, 2009, vol. 74, no. 199, page 53315. This collection is necessary for gathering data concerning potential new hires for the FAA.

DATES: Please submit comments by March 8, 2010.

FOR FURTHER INFORMATION CONTACT: Carla Mauney at Carla.Mauney@faa.gov.

SUPPLEMENTARY INFORMATION:

Federal Aviation Administration (FAA)

Title: Application for Employment with the Federal Aviation Administration.

Type of Request: Revision of a currently approved collection.

OMB Control Number: 2120-0597.

Form(s): 3330-42, 3330-52, OF 304, 3330-43-1, AF-SRG-005, AF-SRG-002, 3330-43, AF-SRG-001, OPM 1635, 54972, AC-3300-70, 3330-473, AF-SRG-007, 3330-71, ASG-MFG-001, OF 612, SF 15, AF-SRG-004, OPM-1170, AF-SRG-003, AF-SRG-006, AF 3330.1A, 52569, FTP 001, 2105-0557.

Affected Public: An estimated 180,000 respondents.

Frequency: This information is collected on occasion.

Estimated Average Burden per Response: Approximately 1.5 hours per response.

Estimated Annual Burden Hours: An estimated 207,000 hours annually.

Abstract: This collection is necessary for gathering data concerning potential new hires for the FAA. The information is used to evaluate the qualifications of applicants for a variety of positions. Without the information there would be no means to accurately evaluate applicants' skills, knowledge, and abilities to perform the duties of the positions.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street, NW., Washington, DC 20503.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on January 27, 2010.
Carla Mauney,
FAA Information Collection Clearance Officer, IT Enterprises Business Services Division, AES-200.

[FR Doc. 2010-2473 Filed 2-3-10; 8:45 am]

BILLING CODE 4910-13-P